NATIONAL ARCHIVES AND RECORDS ADMINISTRATION

36 CFR Part 1228

RIN 3095-AB31

Records Center Facility Standards

AGENCY: National Archives and Records Administration (NARA).

ACTION: Final rule; correction.

SUMMARY: NARA published the final rule, Records Center Facility Standards, in the August 29, 2005, Federal Register (70 FR 50980). In that final rule, we revised § 1228.240(c) entirely, removing subordinate paragraphs §§ 1228.240(c)(1) and (c)(2). Paragraph § 1228.240(d), which was not amended in the rulemaking, currently contains a sentence “For requests submitted under paragraph (c)(2) of this section, NARA also will review the submitted plan to ensure that the plan is realistic.” This correction removes that sentence.

DATES: This rule is effective on September 28, 2005.

FOR FURTHER INFORMATION CONTACT: Nancy Allard at 301-837-1477 or fax number 301-837-0319.

SUPPLEMENTARY INFORMATION: In FR Doc. 05-17097 appearing on page 50980 in the Federal Register of Monday, August 29, 2005, the following correction is made:

PART 1228—[CORRECTED]

§ 1228.240 [Corrected]

On page 50988, in the second column, in Part 1228, Disposition of Federal Records, in amendment 9, the instruction “9. Amend § 1228.240 by revising paragraph (c) to read as follows:” and the amended text set forth are corrected to read:

“9. Amend § 1228.240 by revising paragraphs (c) and (d) to read as follows:

§ 1228.240 How does an agency request authority to establish or relocate records storage facilities?

* * * * *

(c) Contents of requests for agency records centers. Requests for authority to establish or relocate an agency records center, or to use an agency records center operated by another agency, must be submitted in writing to the Director, Space and Security Management Division (NAS), National Archives and Records Administration, 8601 Adelphi Road, College Park, MD 20740-6001. The request must identify the specific facility and, for requests to establish or relocate the agency's own records center, document compliance with the standards in this subpart. Documentation requirements for § 1228.230(s) are specified in § 1228.242.

(d) Approval of requests for agency records centers. NARA will review the submitted documentation to ensure the facility demonstrates full compliance with the standards in this subpart. NARA reserves the right to visit the facility, if necessary, to make the determination of compliance. NARA will inform the agency of its decision within 45 calendar days after the request is received, and will provide the agency information on the areas of noncompliance if the request is denied. Requests will be denied only if NARA determines that the facility does not demonstrate full compliance with the standards in this subpart. Approvals will be valid for a period of 10 years, unless the facility is materially changed before then or an agency or NARA inspection finds that the facility does not meet the standards in this subpart. Material changes require submission of a new request for NARA approval.

* * * * *

Dated: September 19, 2005.
Allen Weinstein,
Archivist of the United States.

[FR Doc. 05-19021 Filed 9-22-05; 8:45 am]

BILLING CODE 7515-01-P